COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add to the Procurement List products and services to be furnished by nonprofit agencies employing persons who are blind or have other severe disabilities, and to delete products previously furnished by such agencies.

Comments Must Be Received On or Before: 5/24/2010.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or e-mail CMTEFedReg@AbilityOne.gov.

SUPPLEMENTARY INFORMATION:

This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: MR 987—Towel, Super Absorbent, Orange.

NSN: MR 988—Towel, Super Absorbent, Kitchen Set, Assorted Colors.

NPA: Industries for the Blind, Inc., West Allis, WI.

Contracting Activity: Military Resale-Defense Commissary Agency, Fort Lee, VA.

Coverage: C-list for 100% of the Military Resale requirements of the Defense Commissary Agency, Fort Lee, VA.

NSN: 7930-00-NIB-0553—TriBase Multi-Purpose Cleaner, 2 liter, 4/BX.

NSN: 7930-00-NIB-0554—TriBase Multi-Purpose Cleaner, 55 gallon drum, 1 DR.

NSN: 7930-00-NIB-0555—BioRenewable Glass Cleaner, 2-liter, 4/BX.

NSN: 7930-00-NIB-0556—BioRenewable Glass Cleaner, 55 gallon drum, 1 DR.

NSN: 7930-00-NIB-0557—Neutral Disinfectant Cleaner, 2-liter, 4/BX.

NSN: 7930-00-NIB-0558—Neutral Disinfectant Cleaner, 55 gallon drum, 1 DR.

NSN: 7930-00-NIB-0559—BioRenewable Industrial Cleaner, 2 liter, 4/BX.

NSN: 7930-00-NIB-0560—BioRenewable Industrial Cleaner, 55 gallon drum, 1 DR.

NSN: 4510-00-NIB-0021—Dispensing unit, 4 station, stainless steel, 1 EA.

NSN: 4510-00-NIB-0022—Dispensing unit, 3-station, stainless steel, 1 EA.

NSN: 8125-00-NIB-0024—Tribase multi-purpose silk screened 8 oz bottle, 12/BX.

NSN: 8125-00-NIB-0025—Glass cleaner silk screened 8 oz bottle, 12/BX.

NSN: 8125-00-NIB-0026—Neutral Disinfectant silk screened 8 oz bottle, 12/BX.

NSN: 8125-00-NIB-0027—Industrial cleaner silk screened 8 oz bottle, 12/BX.

NSN: 8125-00-NIB-0030—Neutral Disinfectant silk screened 32 oz bottle, 12/BX.

NSN: 8125-00-NIB-0041—Spray Bottle, BioRenewables Restroom Cleaner, Silk Screened, 8 oz, 2/BX.

NSN: 8125-00-NIB-0042—Spray Bottle, BioRenewables Restroom Cleaner, Silk Screened, 32 oz, 12/BX.

NSN: 7930-00-NIB-0612—Cleaner, Restroom, BioRenewables, 55 GL Drum, 1 DR.

NSN: 8125-00-NIB-0040—Industrial Cleaner Silk Screened 32 oz Bottle, 12/BX.

NPA: Susquehanna Association for the Blind and Visually Impaired, Lancaster, PA.

Contracting Activity: Department of Justice, Federal Prison System, Central Office, Washington, DC.

Coverage: C-List for 100% of the requirements of the Federal Prison System, Central Office, Washington, DC.

Services

Service Type/Location: Document Destruction Services, Dallas Finance Center—Dept of Homeland Security (ICE), 1460 Prudential Drive, Dallas, TX.

NPA: Expanco, Inc., Fort Worth, TX.

Contracting Activity: Dept of Homeland Security, Bureau of Immigration and Customs Enforcement, Mission Support—Dallas Office, Dallas, TX.

Service Type/Location: Car Wash Service, Customs and Border Protection/Indio Border Station, 83-801 Vin Deo Circle, Indio, CA.

NPA: Sheltering Wings Corp., Blythe, CA.

Contracting Activity: Dept. of Homeland Security, Bureau of Customs and Border Protection, Office of Procurement, Washington, DC.

Service Type/Location: Janitorial, U.S. Border Patrol Station: Camp Grip, Devil's Highway, Yuma, AZ.

Service Type/Location: Janitorial and Grounds Maintenance, U.S. Border Patrol Station: Yuma Annex, 4030 S. Avenue A, Yuma, AZ.

NPA: The EXCEL Group, Inc., Yuma, AZ.

Contracting Activity: Dept of Homeland Security, Bureau of Customs and Border Protection, Office of Procurement, Washington, DC.

Service Type/Location: Administrative Support Services, Natick Contracting Division, AMSSB-ACN-S, Natick, MA.

NPA: Work, Incorporated, North Quincy, MA.

Contracting Activity: Dept of the Army, XR W2DF Rdecom ACQ CTR Natick, Natick, MA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Case, Tent Repair Kit

NSN: 8340-00-270-1334.

NPA: Work Services Corporation, Wichita Falls, TX.

Contracting Activity: Defense Supply Center Philadelphia, Philadelphia, PA.

JR Deluxe Time Management System

NSN: 7530-00-NSH-0095—JR Deluxe Version TMS, Black.

Executive/Personal Time Management System

NSN: 7530-01-537-7818L—DAYMAX System, JR Version, 2009, Black w/Logo.

NSN: 7530-01-537-7819L—DAYMAX System, JR Version, 2009, Navy w/Logo.

NSN: 7530-01-537-7821L—DAYMAX System, JR Version, 2009, Burgundy w/Logo.

NSN: 7530-01-537-7822L—DAYMAX System, IE, 2009, Black w/Logo.

NSN: 7530-01-537-7824L—DAYMAX System, IE, 2009, Navy w/Logo.

NSN: 7530-01-537-7823L—DAYMAX System, IE, 2009, Burgundy w/Logo.

NSN: 7530-01-537-7825L—DAYMAX System, LE, 2009, Black w/Logo.

NSN: 7530-01-537-7826L—DAYMAX System, LE, 2009, Navy w/Logo.

NSN: 7530-01-537-7827L—DAYMAX System, LE, 2009, Burgundy w/Logo.

NSN: 7530-01-537-7805L—DAYMAX System, GLE, 2009, Black w/Logo.

NSN: 7530-01-537-7803L—DAYMAX System, GLE, 2009, Navy w/Logo.

NSN: 7530-01-537-7804L—DAYMAX System, GLE, 2009, Burgundy w/Logo.

NSN: 7530-01-537-7804—DAYMAX System, GLE, 2009, Burgundy.

NSN: 7530-01-537-7803—DAYMAX System, GLE, 2009, Navy.

NSN: 7530-01-537-7802—DAYMAX System, DOD Planner, 2009.

NSN: 7530-01-537-7806—DAYMAX System, Camouflage Planner, 2009.

NSN: 7510-01-537-7808—DAYMAX, IE/LE Month at a View, 2009, 3-hole.

NSN: 7510-01-537-7807—DAYMAX, IE/LE Week at a View, 2009, 3-hole.

NSN: 7510-01-537-7809—DAYMAX, IE/LE Day at a View, 2009, 3-hole.

NSN: 7510-01-537-7815—DAYMAX, GLE Week at a View, 2009, 7-hole.

NSN: 7510-01-537-7810—DAYMAX, GLE Day at a View, 2009, 7-hole.

NSN: 7510-01-537-7812—DAYMAX, Tabbed Monthly, 2009, 3-hole.

NSN: 7510-01-537-7814—DAYMAX, Tabbed Monthly, 2009, 7-hole.

NSN: 7530-01-537-7805—DAYMAX System, GLE, 2009, Black.

NSN: 7530-01-537-7827—DAYMAX System, LE, 2009, Burgundy.

NSN: 7530-01-537-7826—DAYMAX System, LE, 2009, Navy.

NSN: 7530-01-537-7825—DAYMAX System, LE, 2009, Black.

NSN: 7530-01-537-7823—DAYMAX System, IE, 2009, Burgundy.

NSN: 7530-01-537-7824—DAYMAX System, IE, 2009, Navy.

NSN: 7530-01-537-7822—DAYMAX System, IE, 2009, Black.

NSN: 7530-01-537-7821—DAYMAX System, JR Version, 2009, Burgundy.

NSN: 7530-01-537-7819—DAYMAX System, JR Version, 2009, Navy.

NSN: 7530-01-537-7802L—DAYMAX System, DOD Planner w/Logo, 2009.

NSN: 7530-01-537-7806L—DAYMAX System, Camouflage Planner w/Logo, 2009.

NSN: 7530-01-537-7801L—DAYMAX System, Desert, Camouflage Planner w/Logo.

NSN: 7530-01-537-7801—DAYMAX System, Desert, Camouflage Planner, 2009.

NSN: 7510-01-537-7813—DAYMAX, GLE Month at a View, 2009, 7-hole.

NSN: 7530-01-537-7818—DAYMAX System, JR Version, 2009, Black.

NSN: 7530-01-545-3738—Appointment Book Refill, 2009.

NSN: 7510-01-545-3709—Calendar Pad, Type I, 2009.

NSN: 7510-01-545-3773—Calendar Pad, Type II, 2009.

NPA: The Easter Seal Society of Western Pennsylvania, Pittsburgh, PA.

Contracting Activity: GSA/FSS OFC SUP CTR—Paper Products, New York, NY.

Barry S. Lineback,
Director, Business Operations.

[FR Doc. 2010-9442 Filed 4-22-10; 8:45 am]

BILLING CODE 6353-01-P